NATIONAL COUNCIL ON DISABILITY

Sunshine Act Meetings

TIME AND DATE: The Members of the National Council on Disability (NCD) will hold a quarterly business meeting on Thursday, May 13, 2021, 2:00 p.m.-5:00 p.m., Eastern Daylight Time (EDT).

PLACE: This meeting will occur via Zoom videoconference. Registration is not required. Interested parties are encouraged to join the meeting in an attendee status by Zoom Desktop Client, Mobile App, or Telephone to dial-in. Updated information is available on NCD's event page at https://ncd.gov/events/2021/upcoming-council-meeting.

To join the Zoom webinar, please use the following URL: https://zoom.us/j/95274443305?pwd=TUY1SmdEMVlZaVY5bVFHVFdYWjJ5Zz09or enter Webinar ID: 952 7444 3305 in the Zoom app. The Passcode is: 644953.

To join the Council Meeting by telephone, dial one of the preferred numbers listed. The following numbers are (for higher quality, dial a number based on your current location): (312) 626-6799; (646) 876-9923; (301) 715-8592; (346) 248-7799; (408) 638-0968; (669) 900-6833; or (253) 215-8782. You will be prompted to enter the meeting ID 952-7444-3305 and passcode 644953.

In the event of teleconference disruption or failure, attendees can follow the meeting by accessing the Communication Access Realtime Translation (CART) link provided. CART is text-only translation that occurs real time during the meeting and is not an exact transcript.

MATTERS TO BE CONSIDERED: Following welcome remarks and introductions, the Chairman, Executive Director and Executive Committee will provide reports; followed by updates on policy projects; a state advocacy highlight on post high school advancement; an update on themes projects; legal and administrative training for Council Members; a schedule of remaining 2021 Council Meetings; and any unfinished business before adjournment.

Agenda: The times provided below are approximations for when each agenda item is anticipated to be discussed (all times Eastern Daylight Time):

Thursday, May 13, 2021

2:00-2:05 p.m.—Welcome and Call to Order

2:05-2:15 p.m.—Chairman's Report

2:15-2:20 p.m.—Executive Director's Report

2:20-2:35 p.m.—Executive Committee Report

2:35-3:20 p.m.—Policy Project Updates, Remainder FY21

3:20-3:50 p.m.—State Advocacy Highlight: Post High School Advancement for Individuals with Intellectual Disabilities, Ann Jackson, PT, DPT, MPH

3:50-4:15 p.m.—Updates on Themes Projects

4:15-4:30 p.m.—Legal Training for Council Members—130-Day Rule

4:30-4:50 p.m.—Administrative Training for Council Members—Special Government Employees Time Submission Policy

4:50-5:00 p.m.—Schedule of 2021 Council Meetings, unfinished business

5:00 p.m.-Adjourn

Public Comment: There is no in-person public comment session during this council meeting, however the Council is soliciting public comment by email, providing an opportunity to hear from you—individuals, businesses, providers, educators, parents and advocates. Your comments are important in bringing to the Council's attention issues and priorities of the disability community. To provide comments, please send an email to PublicComment@ncd.gov with the subject line “Public Comment” and your name, organization, state, and topic of comment included in the body of your email.

CONTACT PERSON FOR MORE INFORMATION: Nicholas Sabula, Public Affairs Specialist, NCD, 1331 F Street NW, Suite 850, Washington, DC 20004; 202-272-2004 (V), or nsabula@ncd.gov.

Accommodations: An ASL interpreter will be on-camera during the entire meeting, and CART has been arranged for this meeting and will be embedded into the Zoom platform as well as available via streamtext link. The web link to access CART (in English) is: https://www.streamtext.net/player?event=NCD-COUNCIL. If you require additional accommodations, please notify Anthony Simpson by sending an email to asimpson.cntr@ncd.gov as soon as possible and no later than 24 hours prior to the meeting.

Due to last-minute confirmations or cancellations, NCD may substitute items without advance public notice.

Dated: April 23, 2021.
Anne C. Sommers McIntosh,
Executive Director.

[FR Doc. 2021-08917 Filed 4-26-21; 11:15 am]

BILLING CODE 8421-02-P